DEPARTMENT OF AGRICULTURE

Food and Nutrition Service

Agency Information Collection Activities: Proposed Collection; Comment Request—FNS-380, Worksheet for the Supplemental Nutrition Assistance Program Quality Control Reviews

AGENCY: Food and Nutrition Service, USDA.

ACTION: Notice.

SUMMARY: As required by the Paperwork Reduction Act of 1995, this notice invites the general public and other public agencies to comment on the proposed information collection. This collection is a revision of a currently approved collection of FNS-380, Worksheet for the Supplemental Nutrition Assistance Program's Quality Control Reviews.

DATES: Written comments must be submitted on or before November 3, 2009.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology.

Comments may be sent to: Tiffany Susan Wilkinson, Program Analyst, Quality Control Branch, Program Accountability and Administration Division, Food and Nutrition Service, U.S. Department of Agriculture, 3101 Park Center Drive, Room 822, Alexandria, VA 22302. You may also download an electronic version of this notice at http://www.fns.usda.gov/fsp/rules/regulations/default.htm and comment via e-mail at SNAPHQ-Web@fns.usda.gov or use the Federal e-Rulemaking Portal. Go to http://www.regulations.gov and follow the online instructions for submitting comments electronically.

All written comments will be open for public inspection at the office of the Food and Nutrition Service during regular business hours (8:30 a.m. to 5 p.m. Monday through Friday) at 3101 Park Center Drive, Room 822, Alexandria, Virginia 22302.

All responses to this notice will be included in the request for Office of Management and Budget approval. All comments will also become a matter of public record.

FOR FURTHER INFORMATION CONTACT: Requests for additional information or copies of the information collection form and instruction should be directed to Tiffany Susan Wilkinson, (703) 305-2410.

SUPPLEMENTARY INFORMATION: Title: Worksheet for the Supplemental Nutrition Assistance Program's (SNAP) Quality Control Reviews.

OMB Number: 0584-0074.

Form Number: FNS-380.

Expiration Date: February 28, 2010.

Type of Request: Revision of a currently approved collection.

Abstract: Form FNS-380 is a SNAP worksheet used to determine eligibility and benefits for households selected for review in the quality control sample of active cases. We estimate the total reporting burden for this collection of information as 8.9 hours, equating to a total of 498,978 hours collectively. This includes the time for State agencies analyzing the household case record; planning and carrying out the field investigation; gathering, comparing, analyzing and evaluating the review data and forwarding selected cases to the Food and Nutrition Service for Federal validation. It also includes an average interview burden of 30 minutes (0.5 hours) for each household. Additionally, we estimate the recordkeeping burden per record for the state agency to be 0.0236 hours, thereby making the recordkeeping burden associated with this information collection for the state agency to be 1,323 hours. The total estimated reporting and recordkeeping burden for this collection is 500,301 hours.

The reporting and recordkeeping burden for this form was previously approved under Office of Management and Budget (OMB) clearance number 0584-0074. OMB approved the burden through November 30, 2009. Based on the most recent table of active case sample sizes and completion rates (FY 2007), we estimate 56,065 FNS-380 worksheets and interviews will now be completed annually. This is a decrease of 1,134 responses from the estimate made to substantiate the current collection. This estimate will also cause a corresponding decrease in the reporting and recordkeeping burden. The decrease in response is a result of a reduction in the number of cases being pulled for review over the minimum required review amount. We are requesting a three-year approval from OMB for this information collection.

Affected Public: State or local governments.

Estimated Number of Respondents: 53 State agencies.

Estimated Number of Responses per Respondent: 1057 responses.

Estimated Total Number of Responses per Year: 56,065 responses.

Estimated Time per Response: 8.4 hours per State agency.

Affected Public: Individuals or Households.

Estimated Number of Respondents: 56,065 Households.

Estimated Number of Responses per Respondent: 1.

Estimated Total Number of Responses per Year: 56,065.

Estimated Time per Response: .5 hours per Household.

Estimated Total Annual Reporting Burden: 498,978 hours.

Estimated Number of Records: 56,065.

Estimated Time per Record: 0.0236 hours.

Estimated Total Annual Recordkeeping Burden: 1,323 hours.

Estimated Total Annual Reporting and Recordkeeping Burden: 500,301 hours.

Affected public | Number of respondents | Number of responses per respondent | Total responses per year | Time per response | Annual reporting burden [(c)(d)] | Number of records | Time per record | Total annual recordkeeping burden [(f)(g)] | Total annual reporting and recordkeeping burden [(e+h)]
| (a) | (b) | (c) | (d) | (e) | (f) | (g) | (h) | (i)
State Agencies | 53 | 1057 | 56,065 | 8.4 | 470,946 | 56,065 | 0.0236 | 1,323 | 500,301
Households | 56,065 | 1 |  | .5 | 28,032

Dated: August 27, 2009.
Julia Paradis,
Administrator, Food and Nutrition Service.

[FR Doc. E9-21373 Filed 9-3-09; 8:45 am]

BILLING CODE 3410-30-P